DEPARTMENT OF DEFENSE

Department of the Air Force

[Docket ID USAF-2013-0008]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended, were submitted on January 30, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 28, 2013.
Aaron Siegel,
Alternate OSD Federal Register Liaison Officer, Department of Defense.

F036 AFPC F

System Name:

Health Education Records (June 11, 1997, 62 FR 31793).

Changes:

* * * * *

System location:

Delete entry and replace with “Headquarters, Air Force Personnel Center (AFPC), Chief, Medical Service Officer Utilization Division, 550 C Street W, Randolph Air Force Base, TX 78150-4703.”

Categories of individuals covered by the system:

Delete entry and replace with “Air Force Active Duty, Reserve, and Air National Guard personnel.”

Categories of records in the system:

Add as first paragraph “Name, Social Security Number (SSN), Department of Defense Identification Number (DoD ID Number) and grade.”

Authority for maintenance of the system:

Delete entry and replace with “10 U.S.C. 105, Armed Forces Health Professionals Financial Assistance Programs; 10 U.S.C. 9301, Members of Air Force: detail as students, observers, and investigators at educational institutions, industrial plants, and hospitals; and E.O. 9397 (SSN), as amended.”

* * * * *

Routine uses of records maintained in the system including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of systems of records notices may apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974, as amended, or mentioned in this system of records notice.”

* * * * *

Storage:

Delete entry and replace with “Paper records and electronic storage media.”

Retrievability:

Delete entry and replace with “Retrieved by name, SSN and/or DoD ID Number.”

Safeguards:

Delete entry and replace with “Records are maintained in file cabinets in the building that are locked and have controlled access entry requirements. Electronic files are only accessed by authorized personnel with secure Common Access Card (CAC) in combination with a Personal Identification Number (PIN) and need-to-know. Environment consists of magnetic keyed cipher locked room within AFPC complex.”

* * * * *

Notification procedure:

Delete entry and replace with “Individuals seeking to determine whether this system of records contains information on themselves should address written inquiries to the Chief, Medical Service Officer Utilization Division, Headquarters, Air Force Military Personnel Center, 550 C Street W, Randolph Air Force Base, TX 78150-4703.

For verification purposes, individuals should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking to access records about themselves contained in this system should address written requests to the Chief, Medical Service Officer Utilization Division, Headquarters, Air Force Military Personnel Center, 550 C Street W, Randolph Air Force Base, TX 78150-4703.

For verification purposes, individuals should provide their full name, SSN and/or DoD ID Number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Contesting record procedures:

Delete entry and replace with “The Air Force rules for accessing records, and for contesting contents and appealing initial agency determinations are published in Air Force Instruction 33-332; Air Force Privacy Program; 32 CFR part 806b; or may be obtained from the system manager.”

Record source categories:

Delete entry and replace with “Member's Air Force Form 63, Active Duty Service Commitment (ADSC) Acknowledgement Statement; Member's application; supervisor's evaluation; master personnel records (board use only); Career Brief (board use only); transcripts; test scores; Deans' letters of recommendation; Standard Form (SF) 88, Report of Medical Examination; and SF 93, Report of Medical History.”

* * * * *

[FR Doc. 2013-05030 Filed 3-4-13; 8:45 am]

BILLING CODE 5001-06-P